DEPARTMENT OF LABOR

Employment and Training Administration

Submitted for Public Comment and Recommendations: Reemployment Services

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning the proposed three-year extension of the information collection request (ICR) for reemployment services reporting. A copy of the proposed ICR can be obtained by contacting the office listed below in the address section of this notice.

DATES: Submit comments on or before July 26, 2004.

ADDRESSES: Anthony D. Dais, U.S. Department of Labor, Employment and Training Administration, Office of Workforce Investment, U.S. Employment Services, Room S-4231, 200 Constitution Avenue, NW., Washington DC 20210, (202-693-2784—not a toll free number) and Internet address: dais.anthony@dol.gov.

SUPPLEMENTARY INFORMATION:

I. Background

Since Program Year (PY) 2001 the budget for Wagner-Peyser Act State Workforce Agencies (SWAs) has allocated funds for reemployment services to Unemployment Insurance claimants. Under Office of Management and Budget (OMB) 1205-0424, SWAs have submitted annual plans and reports each program year to ETA. ETA is requesting extension of the authorization to require SWAs to submit an annual plan narrative and a progress report for each program year. These materials will assist ETA in reviewing the appropriateness of the selected activities for reemployment services and determining whether the purpose of the funds was achieved. Specific reporting is necessary to adequately evaluate the reemployment services activities separately from regular employment and training program operations and recordkeeping.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, through the use of appropriate automated, electronic, mechanical, or other technological collection techniques or other forms of information technology, e.g., permitting electronic submissions of responses.

III. Current Actions

This is a request for Office of Management and Budget (OMB) approval of an extension to an existing collection of information previously approved for activities funded through reemployment services allotments, from current end date of December 31, 2004, to a new end date of December 31, 2007.

Type of Review: Extension without change.

Agency: Employment and Training Administration.

Title: Reemployment Services Plan and Report.

OMB Number: 1205-0424

Affected Public: State government.

Form | Number of respondents | Responses per year | Total responses | Hours per response | Total burden hours
Annual Plan | 54 | 1 | 54 | 40 | 2,160
Progress Report | 54 | 1 | 54 | 16 | 864
Totals | 54 | 2 | 108 | 56 | 3,024

Total Respondents: 54.

Frequency: Annual.

Total Responses: 108.

Average Time per Response: 56 hours.

Total Burden Hours: 3,024.

Total Burden Cost (Capital/Startup): 0.

Total Burden Cost (Operating/Maintaining): $108.

Dated: May 20, 2004.
Grace Kilbane,
Administrator, Office of Workforce Investment.

[FR Doc. 04-11993 Filed 5-26-04; 8:45 am]

BILLING CODE 4510-30-P